DEPARTMENT OF HOMELAND SECURITY

Coast Guard

[USCG-2005-22702]

National Boating Safety Advisory Council

AGENCY: Coast Guard, DHS.

ACTION: Notice of meetings.

SUMMARY: The National Boating Safety Advisory Council (NBSAC) and its subcommittees on boats and associated equipment, aftermarket marine equipment, and prevention through people will meet to discuss various issues relating to recreational boating safety. All meetings will be open to the public.

DATES: NBSAC will meet on Saturday, November 12, 2005, from 1 p.m. to 5 p.m., on Monday, November 14, 2005, from 1:30 p.m. to 4:30 p.m., and on Tuesday, November 15, 2005, from 8:30 a.m. to 12 noon. The Prevention Through People Subcommittee will meet on Sunday, November 13, 2005, from 8:30 a.m. to 12 noon. The Boats and Associated Equipment Subcommittee will meet on Sunday, November 13, 2005, from 1:30 p.m. to 5 p.m. The Recreational Boating Safety Strategic Planning Subcommittee will meet on Monday, November 14, 2005, from 8:30 a.m. to 12 noon. These meetings may close early if all business is finished. On Sunday, November 13, a Subcommittee meeting may start earlier if the preceding Subcommittee meeting has closed early. Written material and requests to make oral presentations should reach the Coast Guard on or before Tuesday, October 25, 2005. Requests to have a copy of your material distributed to each member of the committee or subcommittees in advance of the meeting should reach the Coast Guard on or before Tuesday, October 25, 2005.

ADDRESSES: NBSAC will meet at the Crowne Plaza, 1480 Jefferson Davis Highway, Arlington, VA 22202. The subcommittee meetings will be held at the same address. Send written material and requests to make oral presentations to Ms. Jeanne Timmons, Executive Director of NBSAC, Commandant (G-OPB-1), telephone 202-267-1077, U.S. Coast Guard Headquarters, 2100 Second Street SW., Washington, DC 20593-0001. This notice is available on the Internet at http://dms.dot.gov or at the Web site for the Office of Boating Safety at URL address www.uscgboating.org.

FOR FURTHER INFORMATION CONTACT: Ms. Jeanne Timmons, Executive Director of NBSAC, telephone 202-267-1077, fax 202-267-4285. You may obtain a copy of this notice by calling the U.S. Coast Guard Infoline at 1-800-368-5647.

SUPPLEMENTARY INFORMATION: Notice of these meetings is given under the Federal Advisory Committee Act, 5 U.S.C. App. 2.

Tentative Agendas of Meetings

National Boating Safety Advisory Council (NBSAC). The agenda includes the following:

(1) Remarks—Rear Admiral Gary T. Blore, Director of Operations Policy and Council Sponsor.

(2) Swearing in of recent appointees (includes new members and continued members).

(2) Chief, Office of Boating Safety Update on NBSAC Resolutions and Recreational Boating Safety Program report.

(3) Executive Director's report.

(4) Chairman's session.

(5) Report from TSAC Liaison.

(6) Report from NAVSAC Liaison.

(7) Coast Guard Auxiliary report.

(8) National Association of State Boating Law Administrators Report.

(9) Wallop Breaux reauthorization update.

(10) National Transportation Safety Board report.

(11) Update on Personal Flotation Devices (PFDs) on the market for children, including Swimsuit Style

(12) Prevention Through People Subcommittee report.

(13) Boats and Associated Equipment Subcommittee report.

(14) Recreational Boating Safety Strategic Planning Subcommittee report.

Prevention Through People Subcommittee. The agenda includes the following: Discuss current projects and new issues impacting prevention through people.

Boats and Associated Equipment Subcommittee. The agenda includes the following: Discuss current projects and new issues impacting boats and associated equipment.

Recreational Boating Safety Strategic Planning Subcommittee. The agenda includes the following: Discuss current projects and new issues impacting Recreational Boating Safety Strategic Planning.

Procedural

All meetings are open to the public. At the Chairs' discretion, members of the public may make oral presentations during the meetings. If you would like to make an oral presentation at a meeting, please notify the Executive Director of your request no later than Tuesday, October 25, 2005. Written material for distribution at a meeting should reach the Coast Guard no later than Tuesday, October 25, 2005. If you would like a copy of your material distributed to each member of the committee or subcommittee in advance of a meeting, please submit 25 copies to the Executive Director no later than Tuesday, October 25, 2005.

Information on Services for Individuals With Disabilities

For information on facilities or services for individuals with disabilities or to request special assistance at the meetings, contact the Executive Director as soon as possible.

Dated: October 14, 2005.
James M. Hass,
Captain, U.S. Coast Guard, Acting Director of Operations Policy.

[FR Doc. 05-21008 Filed 10-19-05; 8:45 am]

BILLING CODE 4910-15-P